U.S. NUCLEAR REGULATORY COMMISSION

[NRC-2025-2128]

Privacy Act of 1974; System of Records

AGENCY: Nuclear Regulatory Commission.

ACTION: Notice of a modified system of records.

SUMMARY: Pursuant to the Privacy Act of 1974 and Office of Management and Budget (OMB) Circular A-108, the U.S. Nuclear Regulatory Commission (NRC) is proposing revisions to three systems of records: NRC 5, Grants Management System; NRC 32, Office of the Chief Financial Officer Financial Transactions and Debt Collection Management Records; and NRC 41, Tort Claims and Personal Property Claims Records. The revisions add a routine use permitting disclosure to the U.S. Department of the Treasury for purposes of reviewing payment and award eligibility through the Do Not Pay Working System to identify, prevent, or recover improper payments, consistent with OMB Memorandum M-25-32 and Executive Order 14249. These system notices are subject to a 30-day public comment period.

DATES: Submit comments on revisions and changes by March 26, 2026. Comments received after this date will be considered if it is practical to do so, but the Commission is able to ensure consideration only for comments received before this date.

ADDRESSES: You may submit comments by any of the following methods; however, the NRC encourages electronic comment submission through the Federal rulemaking website:

• Federal rulemaking website: Go to https://www.regulations.gov and search for Docket ID NRC-2025-2128. Address questions about Docket IDs in Regulations.gov to Bridget Curran; telephone: 301-415-1003; email: Bridget.Curran@nrc.gov. For technical questions, contact the individual listed in the FOR FURTHER INFORMATION CONTACT section of this document.

• Mail comments to: Office of Administration, Mail Stop: TWFN-5-A85, U.S. Nuclear Regulatory Commission, Washington, DC 20555-0001, ATTN: Program Management, Announcements and Editing Staff.

• Obtaining Information and Submitting Comments: Please refer to Docket ID NRC-2025-2128 when contacting the NRC about the availability of information for this action. The NRC encourages electronic comment submission through the Federal rulemaking website (https://www.regulations.gov). Please include Docket ID NRC-2025-2128 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from others for submission to the NRC, then you should inform them not to include identifying or contact information that they do not want to be publicly disclosed in their comment submission. Your request should state that the NRC does not routinely edit comment submissions to remove such information before making the comment submissions available to the public or entering the comment into ADAMS. You may obtain publicly available information related to this action by any of the following methods:

• Federal Rulemaking wWebsite: Go to https://www.regulations.gov and search for Docket ID NRC-2025-2128.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern standard time, Monday through Friday, except Federal holidays.

FOR FURTHER INFORMATION CONTACT: Sally Hardy, Office of the Chief Information Officer, U.S. Nuclear Regulatory Commission, Washington, DC 20555-0001, telephone: 301-415-5607; email: Sally.Hardy@nrc.gov.

SUPPLEMENTARY INFORMATION: The NRC is proposing to revise the following systems of records: NRC 5, “Grants Management System”; NRC 32, “Office of the Chief Financial Officer Financial Transactions and Debt Collection Management Records”; and NRC 41, “Tort Claims and Personal Property Claims Records.” The revisions add a new routine use authorizing disclosure of information to the U.S. Department of the Treasury for the purpose of reviewing payment and award eligibility through the Do Not Pay Working System, in order to identify, prevent, or recover improper payments.

These revisions are consistent with OMB Memorandum M-25-32, “Advancing Payments Accuracy and Equity in Federal Programs,” and Executive Order 14249, “Improper Payments Elimination and Recovery.” The new routine use will strengthen the NRC's ability to ensure program integrity and compliance with government-wide payment accuracy requirements.

A report on these revisions has been sent to OMB, the Committee on Homeland Security and Governmental Affairs of U.S. Senate, and the Committee on Oversight and Accountability of the U.S. House of Representatives, as required by the Privacy Act.

If changes are made based on the NRC's review of comments received, the NRC will publish a subsequent notice.

The text of the report, in its entirety, is attached.

Dated: February 19, 2026.
For the Nuclear Regulatory Commission.
Jonathan Feibus,
Senior Agency Official for Privacy, Office of the Chief Information Officer.

Attachment—Nuclear Regulatory Commission Privacy Act Systems of Records NRC Systems of Records

5. Grants Management System—NRC.

32. Office of the Chief Financial Officer Financial Transactions and Debt Collection Management Records—NRC.

41. Tort Claims and Personal Property Claims Records—NRC.

These systems of records are maintained by the NRC and contain personal information about individuals that is retrieved by an individual's name or identifier.

The notice for each system of records states the name and location of the record system, the authority for and manner of its operation, the categories of individuals that it covers, the types of records that it contains, the sources of information in those records and the routine uses of each system of records. Each notice also includes the business address of the NRC official who will inform interested persons of the procedures whereby they may gain access to and request amendment of records pertaining to them.

The Privacy Act provides certain safeguards for an individual against an invasion of personal privacy by requiring Federal agencies to protect records contained in an agency system of records from unauthorized disclosure and to ensure that information is current and accurate for its intended use and that adequate safeguards are provided to prevent misuse of such information.

SYSTEM NAME AND NUMBER:

Grants Management System—NRC 5.

SECURITY CLASSIFICATION:

Unclassified

SYSTEM LOCATION:

Primary system—NRC Headquarters, 11555 Rockville Pike, Rockville, Maryland.

SYSTEM MANAGER(S):

Senior Grants Administrative Specialist, Office of Nuclear Regulatory Research, U.S. Nuclear Regulatory Commission, Washington, DC 20555-0001.

AUTHORITY FOR MAINTENANCE OF THE SYSTEM:

42 U.S.C. 16274a, “University Nuclear Leadership Program.”

PURPOSE(S) OF THE SYSTEM:

To administer grant programs for scholarships, fellowships, faculty development and research and development projects at institutions of higher education, including scholarships to trade schools and community colleges. This information is used to track students that receive Federal grant funds under a scholarship or fellowship from academia through employment after graduation to ensure that student's compliance with the terms of his or her service agreement under the University Nuclear Leadership Program (UNLP).

CATEGORIES OF INDIVIDUALS COVERED BY THE SYSTEM:

Student recipients who are selected by Grantee Institutions and are supported by Federal grant funds for scholarships or fellowships under UNLP grant awards.

CATEGORIES OF RECORDS IN THE SYSTEM:

Students name, grant award providing financial support, type of grant award, performance dates of the grand award, address, phone, email, students' educational major/degree, amount of funds received under the grant award, graduation date, service agreement received, work status (employed in nuclear, graduated, waiver approved, repayment), tracking of waiver request/approved, invoice information if applicable in the event of repayment of funds and amount of years that a student is required to work in a nuclear-related position under the service agreement.

RECORD SOURCE CATEGORIES:

The information is derived from approved student service agreements that are required under the program pursuant to 42 U.S.C. 2015b. The NRC establishes the agreement per the statutory and program requirements. The grant recipient institutions require the students to complete the forms for approval by the NRC and countersignature by the institution.

ROUTINE USES OF RECORDS MAINTAINED IN THE SYSTEM, INCLUDING CATEGORIES OF USERS AND THE PURPOSES OF SUCH USES:

In addition to the other types of disclosures permitted under subsection (b) of the Privacy Act, the NRC may disclose information contained in this system of records without the consent of the subject individual if the disclosure is compatible with the purpose for which the record was collected under the following routine uses:

a. A record from this system of records may be disclosed as a routine use to that individual's educational institution in order to monitor the progress of scholarship and fellowship recipients, to ensure compliance with program requirements, to use the data to demonstrate program effectiveness, and for the educational institution's record-keeping purposes.

b. A record from this system of records which indicates a violation of civil or criminal law, regulation or order may be referred as a routine use to a Federal, State, local, or foreign agency that has authority to investigate, enforce, implement or prosecute such laws. Further, a record from this system of records may be disclosed for civil or criminal law or regulatory enforcement purposes to another agency in response to a written request from that agency's head or an official who has been delegated such authority;

c. A record from this system of records may be disclosed as a routine use to a Federal, State, local, or foreign agency to obtain information relevant to an NRC decision concerning hiring or retaining an employee, letting a contract, or issuing a security clearance, license, grant or other benefit;

d. A record from this system of records may be disclosed as a routine use to a Federal, State, local, or foreign agency requesting a record that is relevant and necessary to its decision on a matter of hiring or retaining an employee, issuing a security clearance, reporting an investigation of an employee, letting a contract, or issuing a license, grant, or other benefit;

e. A record from this system of records may be disclosed as a routine use in the course of discovery; in presenting evidence to a court, magistrate, administrative tribunal, or grand jury, or pursuant to a qualifying order from any of those; in alternative dispute resolution proceedings, such as arbitration or mediation; or in the course of settlement negotiations;

f. A record from this system of records may be disclosed as a routine use to a Congressional office from the record of an individual in response to an inquiry from the Congressional office made at the request of that individual;

g. A record from this system of records may be disclosed as a routine use to NRC-paid experts or consultants, and those under contract with the NRC on a “need-to-know” basis for a purpose within the scope of the pertinent NRC task. This access will be granted to an NRC contractor or employee of such contractor by a system manager only after satisfactory justification has been provided to the system manager.

h. A record from this system of records may be disclosed as a routine use to appropriate agencies, entities, and persons when (1) NRC suspects or has confirmed that there has been a breach of the system of records, (2) NRC has determined that as a result of the suspected or confirmed breach there is a risk of harm to individuals, NRC (including its information systems, programs, and operations), the Federal Government, or national security, and (3) the disclosure made to such agencies, entities, and persons is reasonably necessary to assist in connection with NRC efforts to respond to the suspected or confirmed breach or to prevent, minimize, or remedy such harm; and

i. A record from this system of records may be disclosed as a routine use to another Federal agency or Federal entity, when the NRC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

j. To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally-recognized Indian tribe) in a state administered, federally-funded program.

POLICIES AND PRACTICES FOR STORAGE OF RECORDS:

These records are maintained electronically on a protected shared drive, restricted access to only those approved by grant staff and the Office of the Chief Human Capital Office.

POLICIES AND PRACTICES FOR RETRIEVAL OF RECORDS:

Information retrieved by names, grant award numbers or job status.

POLICIES AND PRACTICES FOR RETENTION AND DISPOSAL OF RECORDS:

Records are retained and disposed of in accordance with National Archives and Records Administration record retention schedules appropriate to the retention. See the General Records Schedule (GRS) as follows:

GRS 1.2 item 010—Grant and cooperative agreement program management records. Temporary. Destroy 3 years after final action is taken on the file, but longer retention is authorized if required for business use.

GRS 1.2 item 020—Grant and cooperative agreement case files. Successful applications. Temporary. Destroy 10 years after final action is taken on file, but longer retention is authorized if required for business use.

GRS 1.2 item 021—Grant and cooperative agreement case files. Unsuccessful application. Temporary. Destroy 3 years after final action is taken on file, but longer retention is authorized if required for business use.

GRS 1.1 item 010—Financial transaction records related to procuring goods and services, paying bills, collecting debts and accounting. Official record held in the office of record. Temporary. Destroy 6 years after final payment or cancellation, but longer retention is authorized if required for business use.

GRS 1.1 item 011—Financial transaction records related to procuring goods and services, paying bills, collecting debts and accounting. All other copies (used for administrative or reference purposes). Temporary. Destroy when business use ceases.

ADMINISTRATIVE, TECHNICAL, AND PHYSICAL SAFEGUARDS:

Records are maintained electronically; access is restricted to only authorized personnel.

RECORD ACCESS PROCEDURES:

Same as “Notification procedures.”

CONTESTING RECORD PROCEDURES:

Same as “Notification procedures.”

NOTIFICATION PROCEDURES:

Individuals seeking to determine whether this system of records contains information about them should write to the Freedom of Information Act or Privacy Act Officer, Office of the Chief Information Officer, U.S. Nuclear Regulatory Commission, Washington, DC 20555-0001, and comply with the procedures contained in NRC's Privacy Act regulations, 10 CFR part 9.

EXEMPTIONS PROMULGATED FOR THE SYSTEM:

None.

HISTORY:

90 FR 12805 (March 19, 2025).

SYSTEM NAME AND NUMBER:

Office of the Chief Financial Officer Financial Transactions and Debt Collection Management Records—NRC 32.

SECURITY CLASSIFICATION:

Unclassified

SYSTEM LOCATION:

Office of the Chief Financial Officer, NRC, Two White Flint North, 11545 Rockville Pike, Rockville, Maryland. NRC has an interagency agreement with the U.S. Treasury, Administrative Resource Center (ARC), Parkersburg, West Virginia, as a Federal service provider for transactional services in the NRC core financial system since March 2018.

SYSTEM MANAGER(S):

Comptroller, Division of the Comptroller, Office of the Chief Financial Officer, U.S. Nuclear Regulatory Commission, Washington, DC 20555-0001.

AUTHORITY FOR MAINTENANCE OF THE SYSTEM:

15 U.S.C. 1681; 26 U.S.C. 6103; 31 U.S.C. chapter 37; 31 U.S.C. 6501-6508; 31 U.S.C. 7701; 42 U.S.C. 2201; 42 U.S.C. 5841; 31 CFR 900-904; 10 CFR parts 15, 16, 170, 171; and Executive Order (E.O.) 12731.

PURPOSE(S) OF THE SYSTEM:

Financial Transactions and Debt Collection

CATEGORIES OF INDIVIDUALS COVERED BY THE SYSTEM:

Individuals covered are those to whom the NRC owes/owed money, those who receive/received a payment from NRC, and those who owe/owed money to the United States. Individuals receiving payments include, but are not limited to, current and former employees, contractors, consultants, vendors, and others who travel or perform certain services for NRC. Individuals owing money include, but are not limited to, those who have received goods or services from NRC for which there is a charge or fee (NRC licensees, applicants for NRC licenses, Freedom of Information Act requesters, etc.) and those who have been overpaid and owe NRC a refund (current and former employees, contractors, consultants, vendors, etc.).

CATEGORIES OF RECORDS IN THE SYSTEM:

Information in the system includes, but is not limited to, names, addresses, telephone numbers, Social Security Numbers (SSN), employee identification number (EIN), Taxpayer Identification Numbers (TIN), Individual Taxpayer Identification Numbers (ITIN), Data Universal Numbering System (DUNS) number, fee categories, application and license numbers, contract numbers, vendor numbers, amounts owed, background and supporting documentation, correspondence concerning claims and debts, credit reports, and billing and payment histories. The overall agency accounting system contains data and information integrating accounting functions such as general ledger, funds control, travel, accounts receivable, accounts payable, property, and appropriation of funds. Although this system of records contains information on corporations and other business entities, only those records that contain information about individuals that is retrieved by the individual's name or other personal identifier are subject to the Privacy Act.

RECORD SOURCE CATEGORIES:

Record source categories include, but are not limited to, individuals covered by the system, their attorneys, or other representatives; NRC; collection agencies or contractors; employing agencies of debtors; and Federal, State, and local agencies.

ROUTINE USES OF RECORDS MAINTAINED IN THE SYSTEM, INCLUDING CATEGORIES OF USERS AND THE PURPOSES OF SUCH USES:

Pursuant to an interagency agreement, the NRC may disclose records to Treasury ARC, acting as a federal shared service provider, to perform authorized transactional services in support of the NRC's core financial system, the Financial Accounting and Integrated Management Information System (FAIMIS).

In addition to the other types of disclosures permitted under subsection (b) of the Privacy Act, the NRC may disclose information contained in this system of records without the consent of the subject individual if the disclosure is compatible with the purpose for which the record was collected under the following routine uses or, where determined to be appropriate and necessary, the NRC may authorize Treasury ARC to make the disclosure:

a. To debt collection contractors (31 U.S.C. 3718) or to other Federal agencies such as the U.S. Department of the Treasury (Treasury) and the U.S. Department of Interior (DOI) for the purpose of collecting and reporting on delinquent debts as authorized by the Debt Collection Act of 1982 or the Debt Collection Improvement Act (DCIA) of 1996 and the Digital Accountability and Transparency Act (DATA) of 2014;

b. To Treasury; the Defense Manpower Data Center, Department of Defense; the United States Postal Service; government corporations; or any other Federal, State, or local agency to conduct an authorized computer matching program in compliance with the Privacy Act of 1974, as amended, to identify and locate individuals, including Federal employees, who are delinquent in their repayment of certain debts owed to the U.S. Government, including those incurred under certain programs or services administered by the NRC, in order to collect debts under common law or under the provisions of the Debt Collection Act of 1982 or the Debt Collection Improvement Act of 1996 and DATA of 2014 which include by voluntary repayment, administrative or salary offset, and referral to debt collection contractors;

c. To the U.S. Department of Justice, United States Attorney Treasury ARC, or other Federal agencies for further collection action on any delinquent account when circumstances warrant;

d. To credit reporting agencies/credit bureaus for the purpose of either adding to a credit history file or obtaining a credit history file or comparable credit information for use in the administration of debt collection. As authorized by the DCIA, NRC may report current (not delinquent) as well as delinquent consumer and commercial debt to these entities in order to aid in the collection of debts, typically by providing an incentive to the person to repay the debt timely;

e. To any Federal agency where the debtor is employed or receiving some form of remuneration for the purpose of enabling that agency to collect a debt owed the Federal Government on NRC's behalf by counseling the debtor for voluntary repayment or by initiating administrative or salary offset procedures, or other authorized debt collection methods under the provisions of the Debt Collection Act of 1982 or the DCIA of 1996. Under the DCIA, NRC may garnish non-Federal wages of certain delinquent debtors so long as required due process procedures are followed. In these instances, NRC's notice to the employer will disclose only the information that may be necessary for the employer to comply with the withholding order;

f. To the Internal Revenue Service (IRS) by computer matching to obtain the mailing address of a taxpayer for the purpose of locating such taxpayer to collect or to compromise a Federal claim by NRC against the taxpayer under 26 U.S.C. 6103(m)(2) and under 31 U.S.C. 3711, 3717, and 3718 or common law. Re-disclosure of a mailing address obtained from the IRS may be made only for debt collection purposes, including to a debt collection agent to facilitate the collection or compromise of a Federal claim under the Debt Collection Act of 1982 or the DCIA of 1996, except that re-disclosure of a mailing address to a reporting agency is for the limited purpose of obtaining a credit report on the particular taxpayer. Any mailing address information obtained from the IRS will not be used or shared for any other NRC purpose or disclosed by NRC to another Federal, State, or local agency which seeks to locate the same taxpayer for its own debt collection purposes;

g. To refer legally enforceable debts to the IRS or to Treasury's Debt Management Services to be offset against the debtor's tax refunds under the Federal Tax Refund Offset Program;

h. To prepare W-2, 1099, or other forms or electronic submittals, to forward to the IRS and applicable State and local governments for tax reporting purposes. Under the provisions of the DCIA, NRC is permitted to provide Treasury with Form 1099-C information on discharged debts so that Treasury may file the form on NRC's behalf with the IRS. W-2 and 1099 Forms contain information on items to be considered as income to an individual, including certain travel-related payments to employees, payments made to persons not treated as employees (e.g., fees to consultants and experts), and amounts written-off as legally or administratively uncollectible, in whole or in part;

i. To banks enrolled in the Treasury Credit Card Network to collect a payment or debt when the individual has given his or her credit card number for this purpose;

j. To another Federal agency that has asked the NRC to effect an administrative offset under common law or under 31 U.S.C. 3716 to help collect a debt owed the United States. Disclosure under this routine use is limited to name, address, SSN, EIN, TIN, ITIN, and other information necessary to identify the individual; information about the money payable to or held for the individual; and other information concerning the administrative offset;

k. To Treasury or other Federal agencies with whom NRC has entered into an agreement establishing the terms and conditions for debt collection cross servicing operations on behalf of the NRC to satisfy, in whole or in part, debts owed to the U.S. Government. Cross servicing includes the possible use of all debt collection tools such as administrative offset, tax refund offset, referral to debt collection contractors, salary offset, administrative wage garnishment, and referral to the U.S. Department of Justice. The DCIA of 2014 requires agencies to transfer to Treasury or Treasury-designated Debt Collection Centers for cross servicing certain nontax debt over 120 days delinquent. Treasury has the authority to act in the Federal Government's best interest to service, collect, compromise, suspend, or terminate collection action under existing laws under which the debts arise;

l. Information on past due, legally enforceable nontax debts more than 120 days delinquent will be referred to Treasury for the purpose of locating the debtor and/or effecting administrative offset against monies payable by the Government to the debtor or held by the Government for the debtor under the DCIA's mandatory, Government-wide Treasury Offset Program (TOP). Under TOP, Treasury maintains a database of all qualified delinquent nontax debts and works with agencies to match by computer their payments against the delinquent debtor database in order to divert payments to pay the delinquent debt. Treasury has the authority to waive the computer matching requirement for NRC and other agencies upon written certification that administrative due process notice requirements have been complied with;

m. For debt collection purposes, NRC may publish or otherwise publicly disseminate information regarding the identity of delinquent nontax debtors and the existence of the nontax debts under the provisions of the DCIA of 1996;

n. To the U.S. Department of Labor (DOL) and the U.S. Department of Health and Human Services (HHS) to conduct an authorized computer matching program in compliance with the Privacy Act of 1974, as amended, to match NRC's debtor records with records of DOL and HHS to obtain names, name controls, names of employers, addresses, dates of birth, and TINs. The DCIA requires all Federal agencies to obtain TINs from each individual or entity doing business with the agency, including applicants and recipients of licenses, grants, or benefit payments; contractors; and entities and individuals owing fines, fees, or penalties to the agency. NRC will use TINs in collecting and reporting any delinquent amounts resulting from the activity and in making payments;

o. To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally-recognized Indian tribe) in a state administered, federally funded program.

p. If NRC decides or is required to sell a delinquent nontax debt under 31 U.S.C. 3711(I), information in this system of records may be disclosed to purchasers, potential purchasers, and contractors engaged to assist in the sale or to obtain information necessary for potential purchasers to formulate bids and information necessary for purchasers to pursue collection remedies;

q. If NRC has current and delinquent collateralized nontax debts under 31 U.S.C. 3711(i)(4)(A), certain information in this system of records on its portfolio of loans, notes and guarantees, and other collateralized debts will be reported to Congress based on standards developed by the Office of Management and Budget, in consultation with Treasury;

r. To Treasury, in order to request a payment to individuals owed money by the NRC;

s. To the National Archives and Records Administration or to the General Services Administration for records management inspections conducted under 44 U.S.C. 2904 and 2906;

t. A record from this system of records which indicates a violation of civil or criminal law, regulation or order may be referred as a routine use to a Federal, State, local, or foreign agency that has authority to investigate, enforce, implement or prosecute such laws. Further, a record from this system of records may be disclosed for civil or criminal law or regulatory enforcement purposes to another agency in response to a written request from that agency's head or an official who has been delegated such authority;

u. A record from this system of records may be disclosed as a routine use to a Federal, State, local, or foreign agency to obtain information relevant to an NRC decision concerning hiring or retaining an employee, letting a contract, or issuing a security clearance, license, grant or other benefit;

v. A record from this system of records may be disclosed as a routine use to a Federal, State, local, or foreign agency requesting a record that is relevant and necessary to its decision on a matter of hiring or retaining an employee, issuing a security clearance, reporting an investigation of an employee, letting a contract, or issuing a license, grant, or other benefit;

w. A record from this system of records may be disclosed as a routine use in the course of discovery; in presenting evidence to a court, magistrate, administrative tribunal, or grand jury or pursuant to a qualifying order from any of those; in alternative dispute resolution proceedings, such as arbitration or mediation; or in the course of settlement negotiations;

x. A record from this system of records may be disclosed as a routine use to a Congressional office from the record of an individual in response to an inquiry from the Congressional office made at the request of that individual;

y. A record from this system of records may be disclosed as a routine use to NRC-paid experts or consultants, and those under contract with the NRC on a “need-to-know” basis for a purpose within the scope of the pertinent NRC task. This access will be granted to an NRC contractor or employee of such contractor by a system manager only after satisfactory justification has been provided to the system manager;

z. A record from this system of records may be disclosed as a routine use to appropriate agencies, entities, and persons when (1) NRC suspects or has confirmed that there has been a breach of the system of records, (2) NRC has determined that as a result of the suspected or confirmed breach there is a risk of harm to individuals, NRC (including its information systems, programs, and operations), the Federal Government, or national security, and (3) the disclosure made to such agencies, entities, and persons is reasonably necessary to assist in connection with NRC efforts to respond to the suspected or confirmed breach or to prevent, minimize, or remedy such harm; and

aa. A record from this system of records may be disclosed as a routine use to another Federal agency or Federal entity, when the NRC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Information in this system is stored on paper, microfiche, and electronic media.

POLICIES AND PRACTICES FOR RETRIEVAL OF RECORDS:

Automated information can be retrieved by name, SSN, TIN, DUNS number, license or application number, contract or purchase order number, invoice number, voucher number, and/or vendor code. Paper records are retrieved by invoice number.

POLICIES AND PRACTICES FOR RETENTION AND DISPOSAL OF RECORDS:

Records are retained under the National Archives and Records Administration's General Records Schedule as noted below.

GRS 1.1 item 010—Financial Management and Reporting Records. Financial transaction records related to procuring goods and services, paying bills, collecting debts, and accounting as the Official record held in the office of record. Destroy 6 years after final payment or cancellation, but longer retention is authorized if needed for business use. Records related to administrative claims by or against the United States are retained under GRS 1.1 item 080—Financial Management and Reporting Records. Destroy 7 years after final action, but longer retention is authorized if required for business use. Records used to calculate payroll, arrange paycheck deposit, and change previously issued paychecks are scheduled under GRS 2.4 item 010—Employee Compensation and Benefits Records. Destroy 3 years after paying agency or payroll processor validates data, but longer retention is authorized if required for business use.

ADMINISTRATIVE, TECHNICAL, AND PHYSICAL SAFEGUARDS:

Records in the primary system are maintained in a building where access is controlled by a security guard force. Records are kept in lockable file rooms or at user's workstations in an area where access is controlled by keycard and is limited to NRC and contractor personnel who need the records to perform their official duties. The records are under visual control during duty hours. Access to automated data requires use of proper password and user identification codes by NRC or contractor personnel.

RECORD ACCESS PROCEDURES:

Same as “Notification procedures.”

CONTESTING RECORD PROCEDURES:

Same as “Notification procedures.”

NOTIFICATION PROCEDURES:

Individuals seeking to determine whether this system of records contains information about them should write to the Freedom of Information Act or Privacy Act Officer, Office of the Chief Information Officer, U.S. Nuclear Regulatory Commission, Washington, DC 20555-0001, and comply with the procedures contained in NRC's Privacy Act regulations, 10 CFR part 9.

EXEMPTIONS PROMULGATED FOR THE SYSTEM:

None.

DISCLOSURES TO CONSUMER REPORTING AGENCIES:

Disclosures Pursuant to 5 U.S.C. 552a(b)(12): Disclosures of information to a consumer reporting agency are not considered a routine use of records. Disclosures may be made from this system to “consumer reporting agencies” as defined in the Fair Credit Reporting Act (15 U.S.C. 1681a(f)) or the Federal Claims Collection Act of 1966, as amended (31 U.S.C. 3701(a)(3)).

HISTORY:

89 FR 58779 (July 19, 2024).

SYSTEM NAME AND NUMBER:

Tort Claims and Personal Property Claims Records—NRC 41.

SECURITY CLASSIFICATION:

Unclassified.

SYSTEM LOCATION:

Office of the General Counsel, NRC, One White Flint North, 11555 Rockville Pike, Rockville, Maryland.

SYSTEM MANAGER(S):

Assistant General Counsel for Labor, Employment and Contract Law, U.S. Nuclear Regulatory Commission, Washington, DC 20555-0001.

AUTHORITY FOR MAINTENANCE OF THE SYSTEM:

Federal Tort Claims Act, 28 U.S.C. 2671 et seq.; Military Personnel and Civilian Employees' Claims Act, 31 U.S.C. 3721; 44 U.S.C. 3101.

PURPOSE(S) OF THE SYSTEM:

To facilitate adjudication and processing of claims with the NRC under the Federal Tort Claims Act or the Military Personnel and Civilian Employees' Claims Act.

CATEGORIES OF INDIVIDUALS COVERED BY THE SYSTEM:

Individuals who have filed claims with NRC under the Federal Tort Claims Act or the Military Personnel and Civilian Employees' Claims Act and individuals who have matters pending before the NRC that may result in a claim being filed.

CATEGORIES OF RECORDS IN THE SYSTEM:

This system contains information relating to loss or damage to property and/or personal injury or death in which the U.S. Government may be liable. This information includes, but is not limited to, the individual's name, home address and phone number, work address and phone number, driver's license number, claim forms and supporting documentation, police reports, witness statements, medical records, insurance information, investigative reports, repair/replacement receipts and estimates, litigation documents, court decisions, and other information necessary for the evaluation and settlement of claims.

RECORD SOURCE CATEGORIES:

Information is obtained from a number of sources, including but not limited to, claimants, NRC employees involved in the incident, witnesses or others having knowledge of the matter, police reports, medical reports, investigative reports, insurance companies, and attorneys.

ROUTINE USES OF RECORDS MAINTAINED IN THE SYSTEM, INCLUDING CATEGORIES OF USERS AND THE PURPOSES OF SUCH USES:

In addition to the other types of disclosures permitted under subsection (b) of the Privacy Act, NRC may disclose information contained in a record in this system of records without the consent of the subject individual if the disclosure is compatible with the purpose for which the record was collected under the following routine uses:

a. To third parties, including claimants' attorneys, insurance companies, witnesses, potential witnesses, local police authorities where an accident occurs, and others who may have knowledge of the matter to the extent necessary to obtain information that will be used to evaluate, settle, refer, pay, and/or adjudicate claims;

b. To the DOJ when the matter comes within their jurisdiction, such as to coordinate litigation or when NRC's authority is limited, and DOJ advice or approval is required before NRC can award, adjust, compromise, or settle certain claims;

c. To the appropriate Federal agency or agencies when a claim has been incorrectly filed with NRC or when more than one agency is involved, and NRC makes agreements with the other agencies as to which one will investigate the claim;

d. To the Department of the Treasury to request payment of an award, compromise, or settlement of a claim;

e. Information contained in litigation records is public to the extent that the documents have been filed in a court or public administrative proceeding, unless the court or other adjudicative body has ordered otherwise. This public information, including information concerning the nature, status, and disposition of the proceeding, may be disclosed to any person, unless it is determined that release of specific information in the context of a particular case would constitute an unwarranted invasion of personal privacy;

f. To the National Archives and Records Administration or to the General Services Administration for records management inspections conducted under 44 U.S.C. 2904 and 2906;

g. A record from this system of records which indicates a violation of civil or criminal law, regulation or order may be referred as a routine use to a Federal, State, local, or foreign agency that has authority to investigate, enforce, implement or prosecute such laws. Further, a record from this system of records may be disclosed for civil or criminal law or regulatory enforcement purposes to another agency in response to a written request from that agency's head or an official who has been delegated such authority;

h. A record from this system of records may be disclosed as a routine use to a Federal, State, local, or foreign agency to obtain information relevant to an NRC decision concerning hiring or retaining an employee, letting a contract, or issuing a security clearance, license, grant or other benefit;

i. A record from this system of records may be disclosed as a routine use to a Federal, State, local, or foreign agency requesting a record that is relevant and necessary to its decision on a matter of hiring or retaining an employee, issuing a security clearance, reporting an investigation of an employee, letting a contract, or issuing a license, grant, or other benefit;

j. A record from this system of records may be disclosed as a routine use in the course of discovery; in presenting evidence to a court, magistrate, administrative tribunal, or grand jury or pursuant to a qualifying order from any of those; in alternative dispute resolution proceedings, such as arbitration or mediation; or in the course of settlement negotiations;

k. A record from this system of records may be disclosed as a routine use to a Congressional office from the record of an individual in response to an inquiry from the Congressional office made at the request of that individual;

l. A record from this system of records may be disclosed as a routine use to NRC-paid experts or consultants, and those under contract with the NRC on a “need-to-know” basis for a purpose within the scope of the pertinent NRC task. This access will be granted to an NRC contractor or employee of such contractor by a system manager only after satisfactory justification has been provided to the system manager;

m. A record from this system of records may be disclosed as a routine use to appropriate agencies, entities, and persons when (1) NRC suspects or has confirmed that there has been a breach of the system of records, (2) NRC has determined that as a result of the suspected or confirmed breach there is a risk of harm to individuals, NRC (including its information systems, programs, and operations), the Federal Government, or national security, and (3) the disclosure made to such agencies, entities, and persons is reasonably necessary to assist in connection with NRC efforts to respond to the suspected or confirmed breach or to prevent, minimize, or remedy such harm; and

n. A record from this system of records may be disclosed as a routine use to another Federal agency or Federal entity, when the NRC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

o. To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally-recognized Indian tribe) in a state administered, federally funded program.

POLICIES AND PRACTICES FOR STORAGE OF RECORDS:

Information in this system of records is maintained in both paper and electronic formats. Paper records are stored in restricted areas within access-controlled facilities and maintained in locked file cabinets. Access to paper records is limited to those agency personnel whose official duties and responsibilities require access.

Electronic records are stored on agency-approved information systems with restricted access and permissions.

POLICIES AND PRACTICES FOR RETRIEVAL OF RECORDS:

Information is indexed and accessed by the claimant's name.

POLICIES AND PRACTICES FOR RETENTION AND DISPOSAL OF RECORDS:

Records will be retained under the National Archives and Records Administration's General Records Schedules and the NRC NUREG-0910, Revision 4.

Financial transaction records related to procuring goods and services, paying bills, collecting debts, and accounting, are retained according to General Records Schedule 1.1: Financial Management and Reporting Records, item 010 (“Official record held in the office of record”). Financial transaction records are destroyed 6 years after final payment or cancellation, but longer retention is authorized if required for business use. Since the General Records Schedule (GRS) allows for longer retention, NRC chooses to retain records for 7 years as required for its business use, before destruction. Administrative claims by or against the United States are retained according to General Records Schedule 1.1, item 080. Administrative claims records are destroyed 7 years after final action, but longer retention is authorized if required for business use. Litigation Case Files, are retained according to NRC's NUREG 0910, Revision 4, Part 2.12.7. Records are permanent. Transfer to the National Archives 20 years after cases are closed.

ADMINISTRATIVE, TECHNICAL, AND PHYSICAL SAFEGUARDS:

The paper records are stored in locked file cabinets and access is restricted to those agency personnel whose official duties and responsibilities require access. Automated records are protected by a combination of technical and administrative safeguards. Technical safeguards include user authentication mechanisms via PIV card, PIN protection, role-based access controls, and system monitoring consistent with agency security policies. Administrative safeguards include limiting access to authorized personnel with a demonstrated need to know, and periodic reviews of user access.

RECORD ACCESS PROCEDURES:

Same as “Notification procedures.”

CONTESTING RECORD PROCEDURES:

Same as “Notification procedures.”

NOTIFICATION PROCEDURES:

Individuals seeking to determine whether this system of records contains information about them should write to the Freedom of Information Act or Privacy Act Officer, Office of the Chief Information Officer, U.S. Nuclear Regulatory Commission, Washington, DC 20555-0001, and comply with the procedures contained in NRC's Privacy Act regulations, 10 CFR part 9.

EXEMPTIONS PROMULGATED FOR THE SYSTEM:

None.

DISCLOSURES TO CONSUMER REPORTING AGENCIES:

Disclosures Pursuant to 5 U.S.C. 552a(b)(12): Disclosures of information to a consumer reporting agency are not considered a routine use of records. Disclosures may be made from this system to “consumer reporting agencies” as defined in the Fair Credit Reporting Act (15 U.S.C. 1681a(f)) or the Federal Claims Collection Act of 1966, as amended (31 U.S.C. 3701(a)(3)).

HISTORY:

89 FR 58779 (July 19, 2024).

Addendum I—List of U.S. Nuclear Regulatory Commission Locations

Part 1—NRC Headquarters Offices

1. One White Flint North, 11555 Rockville Pike, Rockville, Maryland.

2. Two White Flint North, 11545 Rockville Pike, Rockville, Maryland.

3. Three White Flint North, 11601 Landsdown Street, North Bethesda, Maryland.

Part 2—NRC Regional Offices

1. NRC Region I, 475 Allendale Road, Suite 102, King of Prussia, Pennsylvania.

2. NRC Region II, Marquis One Tower, 245 Peachtree Center Avenue NE, Suite 1200, Atlanta, Georgia.

3. NRC Region III, 2056 Westings Ave., Suite 400, Naperville, Illinois.

4. NRC Region IV, 1600 East Lamar Boulevard, Arlington, Texas.

5. NRC Technical Training Center, Osborne Office Center, 5746 Marlin Road, Suite 200, Chattanooga, Tennessee.

[FR Doc. 2026-03592 Filed 2-23-26; 8:45 am]

BILLING CODE 7590-01-P